DEPARTMENT OF ENERGY

National Nuclear Security Administration

Notice of Schedule Change for Preparing the Environmental Impact Statement for the Proposed Relocation of the Los Alamos National Laboratory Technical Area 18 Missions

AGENCY: Department of Energy, National Nuclear Security Administration.

ACTION: Notice of schedule change.

SUMMARY: On May 2, 2000, the Department of Energy (DOE), National Nuclear Security Administration (NNSA), published a Notice of Intent to prepare an Environmental Impact Statement (EIS) for the Proposed Relocation of the Los Alamos National Laboratory (LANL) Technical Area 18 (TA-18) (hereafter that EIS will be referred to as the TA-18 EIS) (65 FR 25472). In that notice, the NNSA indicated that the TA-18 EIS process was scheduled to be completed by January 2001. The purpose of this notification is to inform the public that the schedule for completing the TA-18 EIS has changed. The NNSA now projects that the EIS process will not be completed before September 2001.

ADDRESSES: General questions concerning the TA-18 Project can be asked by calling 1-800-832-0885, ext. 6-5484, or by writing to: Mr. Jay Rose, Document Manager, TA-18 Relocation EIS, U.S. Department of Energy/NNSA, 1000 Independence Avenue, S.W., Washington, D.C. 20585.

FOR FURTHER INFORMATION CONTACT: For general information on the NNSA National Environmental Policy Act (NEPA) process, please contact: Mr. Henry Garson, NEPA Compliance Officer for Defense Programs, U.S. Department of Energy/NNSA, 1000 Independence Avenue, SW., Washington, DC 20585; or telephone 1-800-832-0885, ext. 30470. For general information on the DOE NEPA process, please contact: Ms. Carol M. Borgstrom, Director, Office of NEPA Policy and Compliance (EH-42), U.S. Department of Energy, 1000 Independence Avenue, SW., Washington, DC 20585, telephone 202-586-4600, or leave a message at 1-800-472-2756.

SUPPLEMENTARY INFORMATION: On April 11, 2000, Secretary of Energy Bill Richardson announced that the NNSA would begin preparation of an EIS on the proposed transfer to another location of TA-18's capabilities and up to approximately 2 tons of special nuclear materials. In the Notice of Intent, published on May 2, 2000, the NNSA solicited comments on the proposed scope of the TA-18 EIS from the public and conducted public scoping meetings as follows: May 18, 2000, in Albuquerque, New Mexico; May 23, 2000, in North Las Vegas, Nevada; May 25, 2000, in Idaho Falls, ID; and May 30, 2000, in Espanola, New Mexico.

Due primarily to budget constraints, funding for the TA-18 EIS was not available during the summer of 2000 and the schedule for completing the TA-18 EIS began to slip. The events associated with the Cerro Grande fire at LANL (see 65 FR 120, June 21, 2000) further disrupted TA-18 planning activities and added to the schedule slip. The revised EIS schedule is as follows:

Issue Draft EIS—May 2001

Draft EIS Public Hearings—June 2001

Issue Final EIS—August 2001

Record of Decision—September 2001

There have been no significant changes to the TA-18 EIS scope or alternatives, as described in the original TA-18 EIS Notice of Intent.

Issued in Washington, DC, this 18th day of January 2001.
T.J. Glauthier,
Deputy Secretary of Energy, Department of Energy.

[FR Doc. 01-2469 Filed 1-26-01; 8:45 am]

BILLING CODE 6450-01-P